DEPARTMENT OF TRANSPORTATION

Federal Aviation Administration

14 CFR Part 71

[Docket No. FAA-2019-1022; Airspace Docket No. 19-ANM-81]

RIN 2120-AA66

Amendment of Class E Airspace and Establishment of Class E Airspace Extension; Port Angeles, WA

AGENCY: Federal Aviation Administration (FAA), DOT.

ACTION: Final rule.

SUMMARY: This action modifies the Class E surface area, Class E airspace extending upward from 700 feet above the surface and creates Class E airspace as an extension to the Class E surface area at William R Fairchild International Airport, Port Angeles, WA. Following a review of the airspace, the FAA found it necessary to modify the existing airspace for William R Fairchild Airport for the safety and management of Instrument Flight Rules (IFR) operations at the Airport.

DATES: Effective 0901 UTC, September 10, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11D at NARA, email fedreg.legal@nara.gov or go to https://www.archives.gov/federal-register/cfr/ibr-locations.html.

FOR FURTHER INFORMATION CONTACT: Richard Roberts, Federal Aviation Administration, Western Service Center, Operations Support Group, 2200 S 216th Street, Des Moines, WA 98198; telephone (206) 231-2245.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies the existing Class E airspace and establishes new Class E airspace as an extension to the Class E surface area at William R Fairchild International Airport, Port Angeles, WA, in support of IFR operations at the airport.

History

The FAA published a notice of proposed rulemaking in the Federal Register (85 FR 8779; February 18, 2020) for Docket No. FAA-2019-1022 to modify the existing Class E airspace and establish new Class E airspace as an extension to the Class E surface area at William R Fairchild International Airport, Port Angeles, WA. Interested parties were invited to participate in this rulemaking effort by submitting written comments on the proposal to the FAA. Four comments were received. Two comments were in favor of the proposal and two were related to a proposal related to unmanned aircraft (UAV). The comments related to UAVs are not considered substantive to this proposal.

Class E airspace designations are published in paragraph 6002, 6004 and 6005 of FAA Order 7400.11D, dated August 8, 2019, and effective September 15, 2019, which is incorporated by reference in 14 CFR 71.1. The Class E airspace designation listed in this document will be published subsequently in the Order. FAA Order 7400.11, Airspace Designations and Reporting Points, is published yearly and effective on September 15.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Rule

The FAA is amending Title 14 Code of Federal Regulations (14 CFR) part 71 by amending the Class E airspace description for William R Fairchild International Airport, Port Angeles, WA. This action is being submitted coincidental with an FAA proposal, Docket No. FAA-2019-1023; 19-ANM-94 to establish Class E airspace for Port Angeles CGAS, Port Angeles, WA. That action will provide the airspace needed for independent operations at Port Angeles CGAS to facilitate training and mission accomplishment. This action will modify the airspace at William R Fairchild International Airport, Port Angeles, WA, to only that airspace needed for their operations. The Class E surface area will be modified to include the airspace within 4.1 miles of the airport from the 235° bearing clockwise to the 120° bearing and exclude the airspace within 1.5 miles of the Port Angeles CGAS. This exclusion will allow independent air traffic operations at the Port Angeles CGAS when weather conditions at this location varies from those at the William R Fairchild International Airport.

A Class E extension to the surface area will be established 2 miles both sides of the 284° bearing extending from the 4.1-mile radius to 8 miles west of the airport. This will provide the airspace required for the RNAV approach to runway 8, as aircraft descend through 1000 feet AGL.

The Class E airspace extending upward from 700 feet AGL will be modified to within 4.1 miles of William R Fairchild International Airport and that area 3.1 miles on both sides of the 284° bearing from the airport to 11 miles west. This area will provide airspace for the RNAV and the ILS Approach to runway 8, as aircraft descend through 1500 feet. To the southeast, the airspace extending upward from 700 feet AGL will be modified to 1-mile north and 4 miles south of the 105° bearing from the 4.1-mile radius to 7 miles from the airport.

This action will remove the Class E surface airspace 3 miles north and 2.2 miles south of the William R Fairchild international Airport 079° bearing extending from the 4.1-mile radius to 11.4 miles east of the airport, as it is not needed for operations at William R. Fairchild airport. This airspace will support IFR operations at William R Fairchild Airport, Port Angeles, WA.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 6002 Class E Airspace Designated as Surface Areas.

* * * * *

ANM WA E2 Port Angeles, WA [Amended]

William R. Fairchild International Airport, WA

(Lat. 48°07′13″ N, long. 123°29′59″ W)

Port Angeles CGAS

(Lat. 48°08′29″ N, long. 123°24′50″ W)

That airspace within a 4.1-mile radius of the William R. Fairchild International Airport from the 235° bearing clockwise to the 120° bearing excluding the airspace within 1.5 miles of the Port Angeles CGAS.

Paragraph 6004 Class E Airspace Areas Designated as an Extension to a Class D or Class E Surface Area.

* * * * *

ANM WA E4 Port Angeles, WA [New]

William R. Fairchild International Airport, WA

(Lat. 48°07′13″ N, long. 123°29′59″ W)

That airspace extending upward from the surface within 2 miles both sides of the 284° bearing extending from the 4.1 mile radius to 8 miles west of the airport.

Paragraph 6005 Class E Airspace Areas Extending Upward From 700 Feet or More Above the Surface of the Earth.

* * * * *

ANM WA E5 Port Angeles, WA [Amended]

William R. Fairchild International Airport, WA

(Lat. 48°07′13″ N, long. 123°29′59″ W)

That airspace extending upward from 700 feet above the surface within a 4.1-mile radius of the William R. Fairchild International Airport, and within 1 mile north and 4 miles south of the William R. Fairchild International Airport 105° bearing extending from the 4.1-mile radius to 7 miles east of the airport and that airspace 3.1 miles each side of the 284° bearing from the 4.1-mile radius to 11 miles west of the airport.

Issued in Seattle, Washington, on June 15, 2020.
Shawn M. Kozica,
Group Manager, Operations Support Group, Western Service Center.

[FR Doc. 2020-13210 Filed 6-30-20; 8:45 am]

BILLING CODE 4910-13-P